DEPARTMENT OF ENERGY

Federal Energy Regulatory Commission

[ Project No. 12613-004]

Tygart, LLC; Notice of Application Tendered for Filing With the Commission and Establishing Procedural Schedule for Licensing and Deadline for Submission of Final Amendments

Take notice that the following hydroelectric application has been filed with the Commission and is available for public inspection.

a. Type of Application: Original Major License.

b. Project No.: 12613-004.

c. Date Filed: April 30, 2013.

d. Applicant: Tygart, LLC.

e. Name of Project: Tygart Hydroelectric Project.

f. Location: The proposed project would be located at the U.S. Army Corps of Engineers' (Corps) Tygart Dam on the Tygart River in Taylor County, West Virginia. The project would occupy 1 acre of federal land managed by the Corps.

g. Filed Pursuant to: Federal Power Act, 16 U.S.C. 791(a)-825(r).

h. Applicant Contact: David Sinclair, President, Advanced Hydro Solutions, 3000 Auburn Drive, Suite 430, Beachwood, OH 44122-4340 or by email at David.Sinclair@advancedhydrosolutions.com.

i. FERC Contact: Allyson Conner, (202) 502-6082 or allyson.conner@ferc.gov.

j. The application is not ready for environmental analysis at this time.

k. The proposed project would utilize the Corps' existing Tygart Dam, and would consist of the following new facilities: (1) A 15-foot-wide by 21-foot-high steel intake structure; (2) a 270-foot-long penstock which would bifurcate into a 110-foot-long and a 150-foot-long penstock; (3) a 121-foot-long by 99-foot-wide concrete powerhouse; (4) two unequal-sized turbines with a combined capacity of 30 megawatts; (5) an excavated 60-foot-wide by 160-foot-long tailrace; (6) a 1.54-mile-long transmission line; and (7) a switchyard with appurtenant facilities. The average annual generation is estimated to be 108,600 megawatt-hours.

The proposed project would operate in a run-of-release mode using flows made available by the Corps.

The proposed project boundary would enclose all of the generating facilities located on 1 acre of Corps' land as well as the transmission line located on 7 acres of privately owned land.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

m. You may also register online at http://www.ferc.gov/docs-filing/esubscription.asp to be notified via email of new filings and issuances related to this or other pending projects. For assistance, contact FERC Online Support.

n. Procedural schedule: The application will be processed according to the following preliminary Hydro Licensing Schedule. Revisions to the schedule will be made as appropriate.

Milestone | Date
Notice of Acceptance/Notice of Ready for Environmental Analysis | June 29, 2013.
Filing of recommendations, preliminary terms and conditions, and fishway prescriptions | August 28, 2013.
Commission issues Non-Draft EA | December 26, 2013.
Comments on EA | January 25, 2014.
Modified Terms and Conditions | March 26, 2014.

o. Final amendments to the application must be filed with the Commission no later than 30 days from the issuance date of the notice of ready for environmental analysis.

Dated: May 10, 2013.
Kimberly D. Bose,
Secretary.

[FR Doc. 2013-11659 Filed 5-15-13; 8:45 am]

BILLING CODE 6717-01-P